DEPARTMENT OF TRANSPORTATION

Federal Railroad Administration

[Docket No. FRA-2019-0004-N-5]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before July 29, 2019.

ADDRESSES: Submit written comments on the ICRs activities by mail to either: Mr. Robert Brogan, Information Collection Clearance Officer, Office of Railroad Safety, Regulatory Analysis Division, Federal Railroad Administration, 1200 New Jersey Avenue SE, Washington, DC 20590; or Ms. Kim Toone, Information Collection Clearance Officer, Office of Information Technology, Federal Railroad Administration, 1200 New Jersey Avenue SE, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to (202) 493-6216 or (202) 493-6497, or emailed to Mr. Brogan at robert.brogan@dot.gov, or Ms. Toone at kim.toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, Federal Railroad Administration, 1200 New Jersey Avenue SE, Washington, DC 20590 (telephone: (202) 493-6292) or Ms. Kim Toone, Information Collection Clearance Officer, Office of Information Technology, Federal Railroad Administration, 1200 New Jersey Avenue SE, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

The summaries below describe the ICRs that FRA will submit for OMB clearance as the PRA requires:

Title: Designation of Qualified Persons.

OMB Control Number: 2130-0511.

Abstract: The collection of information is used to prevent the unsafe movement of defective freight cars. Railroads are required to inspect freight cars for compliance and to determine restrictions on the movements of defective cars; qualified inspectors are necessary to perform this task.

Type of Request: Extension without change of a currently approved collection.

Affected Public: Businesses.

Form(s): N/A.

Respondent Universe: 692 Railroads.

Frequency of Submission: On occasion.

Reporting Burden:

¹ Throughout the tables in this document, the dollar equivalent cost is derived from the 2018 Association of American Railroads publication titled Railroad Facts (Employment and Annual Wages by Class) (p. 57) using the appropriate employee group to calculate the average hourly wage rate that includes 75 percent overhead charges.

CFR section | Respondent universe | Total annual responses | Average time per response (minutes) | Total annual burden hours | Total annual dollar cost equivalent ¹
215.11—Designation of Inspectors—Written Records | 692 railroads | 1,200 records | 2 | 40 | $3,080

Total Estimated Annual Responses: 1,200.

Total Estimated Annual Burden: 40 hours.

Total Estimated Annual Dollar Cost Equivalent: $3,080.

Title: Qualification and Certification of Locomotive Engineers.

OMB Control Number: 2130-0533.

Abstract: Section 4 of the Rail Safety Improvement Act of 1988 (RSIA), Public Law 100-342, 102 Stat. 624 (June 22, 1988), later amended and re-codified by Public Law 103-272, 108 Stat. 874 (July 5, 1994), required FRA to issue regulations to establish any necessary program for certifying or licensing locomotive engineers. The collection of information is used by FRA to ensure that railroads employ and properly train qualified individuals as locomotive engineers and designated supervisors of locomotive engineers. The collection of information is also used by FRA to verify that railroads have established required certification programs for locomotive engineers and that these programs fully conform to the standards specified in the regulation.

Type of Request: Extension with change (revised estimates) of a currently approved collection.

Affected Public: Businesses.

Form(s): N/A.

Respondent Universe: 741 Railroads.

Frequency of Submission: On occasion; annually; triennially.

Reporting Burden:

CFR section | Respondent universe | Total annual responses | Average time per response | Total annual burden hours | Total annual dollar cost equivalent
240.9—Waivers | 741 railroads | 3 waiver petitions | 90 minutes | 5 | $385
240.101/103—Cert. Prog: Amendments | 741 railroads | 50 amendments | 1 hour | 50 | $3,850
— Cert. Prog.—New | 5 railroads | 5 programs | 40 hours | 200 | 15,400
— Final Review | 5 railroads | 5 reviews | 1 hour | 5 | 385
— Material Modification to Program | 741 railroads | 30 modified programs | 45 minutes | 23 | 1,771
240.105(b)—(c) Written Reports/Determinations of DSLE Performance Skills | 10 railroads | 10 reports | 1 hour | 10 | 1,160
240.109/App. C—Prior Safety Conduct Data | 17,667 candidates | 25 responses | 60 minutes | 25 | 1,900
240.111/App C—Driver's License Data | 17,667 candidates | 17,667 requests | 15 minutes | 4,417 | 335,692
—NDR Match—notifications and requests for data | 741 railroads | 177 notices + 177 requests | 15 min. + 15 min. | 89 | 7,254
—Written response from candidate on driver's license data | 741 railroads | 20 cases/comments | 30 minutes | 10 | 760
240.111(g)—Notice to RR of Absence of License | 53,000 candidates | 4 letters | 15 minutes | 1 | 76
240.111(h)—Duty to furnish data on prior safety conduct as motor vehicle op. | 741 railroads | 200 phone calls | 10 minutes | 33 | 2,508
240.113—Notice to RR Furnishing Data on Prior Safety Conduct—Diff. RR | 17,667 candidates | 353 requests + 353 responses | 15 min./30 min. | 265 | 20,298
240.119—Self-referral to EAP re: active substance abuse disorder | 53,000 locomotive engineers | 150 self-referrals | 5 minutes | 13 | 988
240.121—Criteria—Vision/Hearing Acuity Data—New Railroads | 5 railroads | 5 copies | 15 minutes | 1 | 77
240.121—Criteria—Vision/Hearing Acuity Data—Cond. Certification | 741 railroads | 5 reports | 1 hour | 5 | 385
240.121—Criteria—Vision/Hearing Acuity Data—Not Meeting Standards—Notice by Employee | 741 railroads | 10 notifications | 15 minutes | 3 | 228
240.127—Criteria for Examining Skill Performance—Modification to Certification Program to Include Scoring System | 741 railroads | 11 amended programs + 180 amended programs | 48 hours + 8 hours | 1,968 | 151,536
240.201/221—List of Qualified DSLEs | 741 railroads | 741 updates | 30 minutes | 371 | 28,567
240.201/221—List of Qualified Loco. Engineers | 741 railroads | 741 updated lists | 60 minutes | 741 | 57,057
240.201/223/301—Loco. Engineers Certificate | 53,000 candidates | 17,667 certificates | 5 minutes | 1,472 | 113,344
—False entry on certificates | N/A | N/A | N/A | N/A | N/A
240.205—Data to EAP Counselor | 741 railroads | 177 records | 5 minutes | 15 | 1,155
240.207—Medical certificate showing hearing/vision standards are met: | 53,000 candidates | 17,667 certificates | 70 minutes | 20,612 | 1,587,124
written determinations waiving use of corrective device | 741 railroads | 30 determinations | 2 hours | 60 | 4,620
240.219—Denial of Certification; | 17,667 candidates | 30 letters + 30 responses | 1 hour | 60 | 4,590
Notification to employee of adverse decision | 741 railroads | 30 notifications | 1 hour | 30 | 2,310
240.227—Canadian Certification Data | N/A | N/A | N/A | N/A | N/A
240.229—Joint Operations—Notice—not qualified | 321 railroads | 184 employee calls | 5 minutes | 15 | 1,140
240.309—RR Oversight Resp.: Detected poor safety conduct—annotation | 15 railroads | 6 annotations | 15 minutes | 2 | 152
Testing Requirements:
240.209/213—Written Tests Records | 53,000 candidates | 17,667 test records | 5 minutes | 1,472 | 111,872
240.211/213—Performance Test Records | 53,000 candidates | 17,667 test records | 5 minutes | 1,472 | 111,872
240.303—Annual operational monitor observation records | 53,000 candidates | 53,000 test records | 5 minutes | 4,417 | 335,692
240.303—Annual operating rules compliance test records | 53,000 candidates | 53,000 test records | 5 minutes | 4,417 | 335,692
Recordkeeping:
240.215—Retaining info. supporting determination | 741 railroads | 17,667 records | 30 minutes | 8,834 | 671,384
240.305—Engineer's notice of non-qualification to RR | 53,000 engineers or candidates | 100 notifications | 5 minutes | 8 | 608
—Relaying certification denial or revocation Status to other certifying railroad | 1,060 engineers | 2 letters | 30 minutes | 1 | 76
240.307—Notice to engineer of disqualification | 741 railroads | 1,100 letters | 1 hour | 1,100 | 84,700
240.309—Railroad annual review | 51 railroads | 51 reviews | 40 hours | 2,040 | 157,080
—Report of findings | 51 railroads | 12 reports | 1 hour | 12 | 924
Total | 741 railroads | 217,059 responses | N/A | 54,684 | 4,158,412

Total Estimated Annual Responses: 217,059.

Total Estimated Annual Burden: 54,684 hours.

Total Estimated Annual Dollar Cost Equivalent: $4,158,412.

Title: Roadway Worker Protection.

OMB Control Number: 2130-0539.

Abstract: On June 10, 2016, FRA amended its Roadway Worker Protection (RWP) regulation (see 81 FR 37840) to resolve interpretative issues that had arisen since the original 1996 promulgation of that rule. In particular, this final rule adopted certain terms, resolved miscellaneous interpretive issues, codified certain FRA Technical Bulletins, adopted new requirements governing redundant signal protections and the movement of roadway maintenance machinery over signalized non-controlled track, and amended certain qualification requirements for roadway workers. This final rule also deleted three outdated incorporations by reference of industry standards in FRA's Bridge Worker Safety Standards, and cross referenced the Occupational Safety and Health Administration's regulations on the same point.

Under the information collection associated with the RWP rule (49 CFR part 214), FRA collects a variety of information. To ensure compliance with the rule's requirements, FRA collects data on affected railroads' on-track safety programs to determine that railroads have policies, procedures, and practices in place that protect roadway workers as they go about doing their daily jobs in a dangerous environment. Railroads are required to provide on-track safety manuals to all roadway workers that they can readily consult as a guide when an issue arises as to how to complete a work assignment while maintaining complete safety. Under the regulation, railroads are required to provide initial and recurrent training to roadway workers on their on-track safety program and the procedures to be followed to perform their daily work assignments. This includes training for roadway workers who work on adjacent track and the appropriate practices and procedures they must follow. FRA collects data from railroads on training through the records that they are required to keep. Additionally, FRA collects information on violations of workplace safety on Form FRA F 6180.119. FRA uses violation information to make changes that endanger railroad workers. Overall, FRA uses the information that it collects under this regulation to monitor and enforce requirements relating to the safety of roadway workers and ensure that railroads fulfill their responsibilities to make roadway workers environment secure and free from unnecessary and avoidable hazards.

Type of Request: Extension with change (revised estimates) of a currently approved collection.

Affected Public: Businesses/50,000 Roadway Workers/State Safety Inspectors.

Form(s): FRA F 6180.1119.

Respondent Universe: 741 Railroads.

Frequency of Submission: On occasion.

Reporting Burden:

CFR section | Respondent universe | Total annual responses | Average time per response | Total annual burden hours | Total annual dollar cost equivalent
Form FRA F 6180.119—Part 214 Railroad Workplace Safety Violation Report | 350 Safety Inspectors | 129 forms | 4 hours | 516 | $31,579
214.307—Railroad On-Track Safety Programs—RR Programs that comply with this Part + copies at System/Division Headquarters | 741 Railroads | 276 programs + 325 copies | 2 hours + 2 minutes | 563 | 43,351
—RR Notification to FRA not less than one month before on-track safety program takes effect | 741 Railroads | 276 notices | 20 minutes | 92 | 7,084
—RR Amended on-track safety programs after FRA disapproval | 741 Railroads | 1 program | 4 | 4 hours | 308
—RR Written response in support of disapproved program | 741 Railroads | 1 written response | 40 hours | 40 | 3,080
214.309—On-Track Safety Manual:
—RR Provisions for alternative access to information in on-track safety manual | 741 Railroads | 741 provisions | 60 minutes | 741 | 57,057
—RR Publication of bulletins/notices reflecting changes in on-track safety manual | 60 Railroads | 100 bulletins/notices | 60 minutes | 100 | 7,700
214.311—RR Written procedure to achieve prompt and equitable resolution of good faith employee challenges | 5 new railroads | 5 developed procedures | 30 minutes | 3 | 231
214.313—Good faith challenges to on-track safety rules | 20 railroads | 80 challenges | 8 hours per challenge | 640 | 42,880
214.317—On-Track Procedures for Snow Removal | 5 Railroads | 5 operating procedures | 60 minutes | 5 | 385
—On-track procedures for weed spray equipment | 741 Railroads | 741 operating procedures | 60 minutes | 741 | 57,057
—Roadway Worker in Charge (RWIC) Designation of alternative place of safety other than tunnel niche or clearing bay | 741 Railroads | 25 place of safety designations | 5 minutes | 2 | 134
214.318—Procedures established by railroads for workers to perform duties incidental to those of inspecting, testing, servicing, or repairing rolling equipment | 741 Railroads | 741 rules/procedures | 3 hours | 2,223 | 171,171
214.320—Roadway Maintenance Machines Movement over signalized non-controlled track—RR request to FRA for equivalent level of protection to that provided by limiting all train and locomotive movements to restricted speed | 741 Railroads | 5 requests | 4 hours | 20 | 1,540
214.322—Exclusive Track Occupancy, Electronic Display—Written Authorities/Printed Authority Copy If Electronic Display Fails or Malfunctions | 3 Class I Railroads | 1,000 written authorities | 10 minutes | 167 | 11,189
—Data File Records Relating to Electronic Display Device Involved in Part 225 Reportable Accident/Incident | 3 Class I Railroads | 25 data file records | 2 hours | 50 | 3,850
—Request to FRA for NIST Publication 800-63-2, “Electronic Authentication Guideline” | 741 Railroads | 3 requests + 3 copies | 30 minutes + 2 minutes | 2 | 154
214.329—Train Approach Warning—Written Designation of Watchmen/Lookouts | 741 Railroads | 26,250 designations | 30 Seconds | 219 | 16,863
214.336—Procedures for adjacent track movements over 25 mph: notifications/watchmen/lookout warnings | 100 Railroads | 10,000 notices | 5 seconds | 14 | 938
—Procedures for adjacent track movements 25 mph or less: Notifications/watchmen/lookout warnings | 100 Railroads | 3,000 notices | 15 seconds | 13 | 804
214.337—On-track safety procedures for lone workers: statements by lone workers | 741 Railroads | 2,080,000 statements | 30 seconds | 17,333 | 1,161,311
Statement of on-track safety using individual train detection on track outside manual interlocking, a controlled point, or a remotely controlled hump yard facility | 741 Railroads | 200 on-track safety statements | 30 seconds | 2 | 134
214.339—Audible warning from trains: written procedures that prescribe effective requirements for audible warning by horn and/or bell for trains | 44 Railroads | 44 written procedures | 13 | 572 hours | 44,044
214.343/345/347/349/351/353/355—Annual training for all roadway workers (RWs)—Records of training | 50,000 roadway workers | 50,000 records | 2 minutes | 1,667 | 128,359
214.503—Notifications for Non-Compliant Roadway Maintenance Machines or Unsafe Condition | 50,000 roadway workers | 125 notices | 10 minutes | 21 | 1,407
—Resolution Procedures | 692 Railroads/200 contractors | 5 procedures | 2 hours | 10 | 770
214.505—Required environmental control and protection systems for new on-track roadway maintenance machines with enclosed cabs | 741 Railroads/200 contractors | 500 lists | 1 hour | 500 | 38,500
—Designations/additions to list | 692 Railroads/200 contractors | 150 additions/designations | 5 minutes | 13 | 1,001
214.507—A-Built Light Weight on New Roadway Maintenance Machines | 692 Railroads/200 contractors | 1,000 stickers/stencils | 5 minutes | 83 | 5,063
214.511—Required Audible Warning Devices for New On-Track Roadway Maintenance Machines | 692 Railroads/200 contractors | 3,700 identified mechanisms | 5 minutes | 308 | 18,788
214.515—Overhead covers for existing on-track roadway maintenance machines | 692 railroads/200 contractors | 500 requests + 500 responses | 10 minutes; 20 minutes | 250 | 18,420
214.517—Retrofitting of Existing On-Track Roadway Maintenance Machines Manufactured On or After Jan. 1, 1991 | 692 Railroads/200 contractors | 500 stencils/displays | 5 minutes | 42 | 2,562
214.523—Hi-Rail Vehicles | 692 railroads/200 contractors | 5,000 records | 60 minutes | 5,000 | 305,000
—Non-complying conditions | 692 railroads/200 contractors | 500 tags + 500 reports | 10 minutes + 15 minutes | 208 | 13,936
214.527—Inspection for compliance; Repair schedules | 692 railroads/200 contractors | 550 tags + 550 reports | 5 minutes + 15 minutes | 183 | 12,261
214.533—Schedule of repairs; Subject to availability of parts | 692 railroads/200 contractors | 250 records | 15 minutes | 63 | 4,851
Total | 741 railroads | 2,188,306 responses | N/A | 32,410 | 1,207,732

Total Estimated Annual Responses: 2,188,306.

Total Estimated Annual Burden: 32,410 hours.

Total Estimated Annual Dollar Cost Equivalent: $1,207,732.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-11224 Filed 5-29-19; 8:45 am]

BILLING CODE 4910-06-P